DEPARTMENT OF TRANSPORTATION

Federal Aviation Administration

14 CFR Parts 21, 91, 121, 125, and 129

[Docket No. FAA-1999-6411; Amendment Nos. 21-83, 91-272, 121-285, 125-40, 129-35; Special Federal Aviation Regulation No. 88]

RIN 2120-AG62

Extension of Compliance Times for Fuel Tank System Safety Assessments; Correction

AGENCY: Federal Aviation Administration (FAA), DOT.

ACTION: Final rule; correction.

SUMMARY: This document makes corrections to the final rule published in the Federal Register on December 9, 2002 (67 FR 72830). That rule extended the compliance deadline for supplemental type certificate holders to complete safety assessments of their fuel tank systems, and any system that may affect the fuel tank system, and to develop design changes and maintenance programs needed to correct unsafe conditions.

EFFECTIVE DATE: This correction is effective on June 25, 2003.

FOR FURTHER INFORMATION CONTACT: Mike Dostert, telephone (425) 227-2132.

Correction

In the final rule FR Doc. 02-30997, on page 72830 in the Federal Register issue of December 9, 2002, make the following corrections:

1. On page 72830, in column 1 in the heading section, beginning on line 4, correct “Amendment Nos. 21-82, 91-272, 121-285, 125-140, 129-35” to read “Amendment Nos. 21-83, 91-272, 121-285, 125-40, 129-35, Special Federal Aviation Regulation No. 88”.

2. On page 72833, third column, first sentence of amendatory instruction 2, correct “SFAR No. 88-1” to read “SFAR No. 88”.

Issued in Washington, DC, on June 13, 2003.
Donald P. Byrne,
Assistant Chief Counsel for Regulations.

[FR Doc. 03-16001 Filed 6-24-03; 8:45 am]

BILLING CODE 4910-13-P